DEPARTMENT OF ENERGY

Federal Energy Regulatory Commission

[Docket Nos. TS04-161-000, TS04-135-000, and TS04-210-000]

Gulfstream Natural Gas System, L.L.C.; Chandeleur Pipe Line Company; Sabine Pipe Line LLC; Notice of Extension of Time

September 23, 2004.

Gulfstream Natural Gas System, L.L.C. (Gulfstream), Chandeleur Pipe Line Company (Chandeleur), and Sabine Pipe Line LLC (Sabine) (together, Movants) filed respective motions for an extension of time to comply with section 358.4 of the Commission's regulations, 18 CFR 358.4(e)(5), that requires employees to attend training on the Standards of Conduct for Transmission Providers, as directed by Commission Order No. 2004-B. In their motions, Movants state that training that had been scheduled was postponed due to the complications and aftermath of Hurricane Frances and the potential threat presented by Hurricane Ivan. The requests also state that more time will allow the Movants to manage these storm related activities and take the necessary actions to be in compliance with Order No. 2004 and part 358.

Upon consideration, notice is hereby given that Gulfstream, Chandeleur, and Sabine are granted an extension of time to and including October 31, 2004, to comply with the requirements of Commission Order No. 2004.

Magalie R. Salas,
Secretary.

[FR Doc. E4-2420 Filed 9-29-04; 8:45 am]

BILLING CODE 6717-01-P